DEPARTMENT OF ENERGY

Federal Energy Regulatory Commission

[Project No. 13702-002]

FFP Missouri 2, LLC; Notice of Application Accepted for Filing, Soliciting Motions To Intervene and Protests, and Other Agency Authorizations

Take notice that the following hydroelectric application has been filed with the Commission and is available for public inspection.

a. Type of Application: Original Major License—Existing Dam.

b. Project No.: 13702-002.

c. Date filed: November 13, 2013.

d. Applicant: FFP Missouri 2, LLC.

e. Name of Project: Grenada Lake Hydroelectric Project.

f. Location: The proposed project would be located at the U.S. Army Corps of Engineers' (Corps) existing Grenada Lake Dam, on the Yalobusha River, near the Town of Grenada, Grenada County, Mississippi. The proposed project would occupy approximately 35.5 acres of federal lands administered by the Corps.

g. Filed Pursuant to: Federal Power Act, 16 U.S.C. 791(a)-825(r).

h. Applicant Contact: Thomas Feldman, Vice President, Project Development, Free Flow Power Corporation, 239 Causeway Street, Suite 300, Boston, MA 02114; (978) 283-2822.

i. FERC Contacts: Jeanne Edwards at (202) 502-6181, jeanne.edwards@ferc.gov or Patti Leppert at (202) 502-6034, patricia.leppert@ferc.gov.

j. The deadline for filing motions to intervene and protests is 60 days from the issuance date of this notice.

The Commission strongly encourages electronic filing. Please file motions to intervene and protests and requests for cooperating agency status using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-13702-002.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted, but is not ready for environmental analysis at this time.

l. The proposed project would utilize the Corps' existing Grenada Lake Dam outlet works consisting of a concrete conduit outlet tunnel, regulating gates, and a stilling basin. The project would operate consistent with the Corps' current operation policy.

The proposed project would consist of the following new facilities: (1) A 327.5-foot-long, 10.25-foot-diameter steel liner installed within the Corps' existing concrete outlet tunnel; (2) a 50-foot-long with a varied width steel-lined concrete bifurcation at the end of the Corps' existing conduit to divide the flows between the Corps' existing stilling basin and the project new powerhouse; (3) a 260-foot-long, 14-foot-diameter steel penstock; (4) an 86-foot-high by 78-foot-wide by 50-foot-deep forebay; (5) a 120-foot-long by 60-foot-wide concrete powerhouse with two vertical Kaplan generating units with a total installed capacity of 9.0 megawatts; (6) a 150-foot-long, 70 foot-wide tailrace channel; (7) a substation; (8) a 2,650-foot-long transmission line consisting of a 670-foot-long, 4.160 kilovolt (kV) buried line from the powerhouse to the substation and a 1,980-foot-long, 12.5 kV overhead line from the substation to an existing utility-owned distribution line; and (9) appurtenant facilities. The project would have an estimated average annual generation of 31.0 gigawatt-hours.

m. A copy of the application is available for review at the Commission in the Public Reference Room or may be viewed on the Commission's Web site at http://www.FERC.gov, using the “eLibrary” link. Enter the docket number excluding the last three digits in the docket number field, to access the document. For assistance, contact FERC Online Support. A copy is available for inspection and reproduction at the address in item h above.

Register online at http://www.ferc.gov/docs-filing/esubscription.asp to be notified via email of new filings and issuances related to this or other pending projects. For assistance, contact FERC Online Support.

n. Any qualified applicant desiring to file a competing application must submit to the Commission, on or before the specified intervention deadline date, a competing development application, or a notice of intent to file such an application. Submission of a timely notice of intent allows an interested person to file the competing development application no later than 120 days after the specified intervention deadline date. Applications for preliminary permits will not be accepted in response to this notice.

A notice of intent must specify the exact name, business address, and telephone number of the prospective applicant, and must include an unequivocal statement of intent to submit a development application. A notice of intent must be served on the applicant(s) named in this public notice.

o. Anyone may submit a protest, or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must: (1) Bear in all capital letters the title “PROTEST,” or “MOTION TO INTERVENE,” “NOTICE OF INTENT TO FILE COMPETING APPLICATION,” or “COMPETING APPLICATION;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon the representative of the applicant.

p. Procedural schedule: The application will be processed according to the following Hydro Licensing Schedule. Revisions to the schedule will be made as appropriate.

Issue Notice of Acceptance—August 2014

Issue Scoping Document 1 for comments—October 2014

Comments on Scoping Document 1—November 2014

Issue Scoping Document 2 (if necessary)—December 2014

Issue notice of ready for environmental analysis—December 2014

Commission issues EA or draft EA—September 2015

Comments on EA or draft EA—October 2015

Commission issues final EA (if necessary)—April 2016

q. Other Agency Authorizations: Pursuant to section 401 of the Clean Water Act, the Mississippi Department of Environmental Quality (Mississippi DEQ) must certify that discharge from the construction and operation of this proposed project will comply with the Clean Water Act. The Mississippi DEQ is also reviewing the project application under Title 11 Miss. Admin. Code, Pt. 6, Ch.1, Subch.3, which establishes the review of water quality certification applications. Based on an understanding between the Federal Energy Regulatory Commission (FERC) and the Mississippi DEQ, this public notice is also issued for the purpose of advising all interested persons that there is a decision pending before the Mississippi Environmental Quality Permit Board on the request for section 401 water quality certification for this FERC license application. Any comments concerning the water quality certification request may be submitted to the Mississippi Department of Environmental Quality, Office of Pollution Control at Post Office Box 2261, Jackson, Mississippi 39225-2261. The public comment period on the water quality certification extends 30 days from the date of publication of this notice. A copy of the public notice with a description of the project construction and operation is available for review at the Mississippi DEQ's Jackson office. The complete application may be reviewed at the address listed in paragraph h.

Dated: August 25, 2014.
Kimberly D. Bose,
Secretary.

[FR Doc. 2014-20759 Filed 8-29-14; 8:45 am]

BILLING CODE 6717-01-P